DEPARTMENT OF ENERGY

Proposed Subsequent Arrangement

AGENCY: Office of Nonproliferation and International Security, Department of Energy, (DoE).

ACTION: Proposed subsequent arrangement.

SUMMARY: This notice is being issued under the authority of section 131a. of the Atomic Energy Act of 1954, as amended. The Department is providing notice of a proposed subsequent arrangement under the Agreement for Cooperation between the Government of the United States of America and the Government of the Republic of Korea Concerning Civil Uses of Atomic Energy, signed November 24, 1972, as amended (“Agreement for Cooperation”).

DATES: This subsequent arrangement will take effect no sooner than June 26, 2012.

FOR FURTHER INFORMATION CONTACT: Mr. Sean Oehlbert, Office of Nonproliferation and International Security, National Nuclear Security Administration, Department of Energy. Telephone: 202-586-3806 or email: Sean.Oehlbert@nnsa.doe.gov.

SUPPLEMENTARY INFORMATION: This subsequent arrangement concerns a proposed Joint Determination by the Government of the United States of America and the Government of the Republic of Korea pursuant to Article VIII(C) of the Agreement for Cooperation, that the provisions of Article XI of the Agreement for Cooperation may be effectively applied for the alteration in form or content of U.S.-origin nuclear material contained in irradiated nuclear fuel elements from pressurized water reactors, CANDU reactors, and a research reactor, at the Post Irradiation Examination Facility (PIEF), the Irradiated Material Examination Facility (IMEF), the Radio Isotope Production Area (RIPA), and the DUPIC Fuel Development Facility (DFDF), along with identified analytical laboratories, at the Headquarters of the Korea Atomic Energy Research Institute (KAERI), in accordance with the plan contained in documents KAERI/AR-889/2011, “Post-Irradiation Examination and R&D Programs Using Irradiated Fuels at KAERI,” dated June 2011, and KAERI/AR-919/2012, “DUPIC Fuel Fabrication Using Spent PWR Fuel at KAERI,” dated February 2012. These facilities are found acceptable to both parties pursuant to Article VIII(C) of the Agreement for Cooperation for the sole purpose of alteration in form or content of irradiated fuel elements for post-irradiation examination and for research, development and manufacture of DUPIC fuel powders, pellets and elements for the period ending March 19, 2014. Any activities additional to the plans or changes in the equipment in these facilities will be reviewed by both parties to ensure the general consistency with the scope and objectives of the Joint Determination.

In accordance with section 131a. of the Atomic Energy Act of 1954, as amended, it has been determined that this subsequent arrangement will not be inimical to the common defense and security.

Dated: May 28, 2012.
For the Department of Energy.
Anne M. Harrington,
Deputy Administrator, Defense Nuclear Nonproliferation.

[FR Doc. 2012-14114 Filed 6-8-12; 8:45 am]

BILLING CODE 6450-01-P